ENVIRONMENTAL PROTECTION AGENCY

[ER-FRL-6639-9]

Environmental Impact Statements; Notice of Availability

Responsible Agency: Office of Federal Activities, General Information (202) 564-7167 or http://www.epa.gov/compliance/nepa/.

Weekly receipt of Environmental Impact Statements

Filed April 28, 2003 through May 2, 2003

Pursuant to 40 CFR 1506.9.

EIS No. 030193, Draft EIS, AFS, CA, Spalding Land Exchange Project, Proposed Land Exchange between Spalding Community Service District (SCSD) and Lassen National Forest (LNF), Special Use Permit, Lassen County, CA, Comment Period Ends: June 23, 2003, Contact: Lois Charlton (530) 257-2151.

EIS No. 030194, Draft EIS, AFS, SD, Sioux Ranger District Oil and Gas Leasing Project, Implementation, Sioux Ranger District, Custer National Forest, Harding County, SD, Comment Period Ends: July 8, 2003, Contact: Laurie Waters-Clark (605) 707-4432. The U.S. Department of Agriculture, Forest Service and the U.S. Department of the Interior, Bureau of Land Management are Joint Lead Agencies on the above project. This document is available on the Internet at: http://(www.fs.fed.us/r1/custer/.

EIS No. 030195, Final Supplement, COE, TX, Dallas Floodway Extension, Flood Damage Reduction and Environmental Restoration, Implementation, Trinity River Basin, Dallas County, TX, Wait Period Ends: June 9, 2003, Contact: Gene T. Rice, Jr. (817) 886-1374.

EIS No. 030196, Draft EIS, AFS, MN, Chippewa and Superior National Forests Land and Resource Management Plans Revision, Implementation, Beltrami, Cass, Itasca, Cook, Lake and St. Louis Counties, MN, Comment Period Ends: August 6, 2003, Contact: Duane Lula (218) 626-4300. This document is available on the Internet at: http://www.fs.fed.us/r9/chippewa/plan/planning.htm.

EIS No. 030197, Final EIS, FHW, MI, US-31 Petoskey Area Improvement Study, Congestion Reduction on US-31 in the City of Petoskey and Resport and Bear Creek Townships, Funding and US Army COE Section 404 Permit Issuance, Emmet County, MI, Wait Period Ends: June 9, 2003, Contact: James A. Kirschensteiner (517) 702-1835.

EIS No. 030198, Draft EIS, AFS, NV, Jarbidge Canyon Project, To Implement a Road Management Plan and Construct a Water Projects along the Charleston-Jarbidge Road, and Reconstruct the South Canyon Road, Humbolt-Toiyabe National Forest, Jarbidge Ranger District, ELko County, NV. Comment Period Ends: June 23, 2003, Contact: Jim Winfrey (778) 778-0229.

EIS No. 030199, Final EIS, COE, TX, Three Oaks Mine Project, Construction and Operation of a Surface Lignite Mine, U.S. Army COE Section 404 Permit Issuance, Lee and Bastrop Counties, TX, Wait Period Ends: June 23, 2003, Contact: Jennifer Walker (817) 886-1733.

EIS No. 030200, Draft EIS, DOD, Programmatic EIS—Chemical and Biological Defense Program, To Protect our Soldiers, Sailors, Marines and Airmen on the Battlefield, United States and other Countries, Comment Period Ends: June 23, 2003, Contact: Jolane Souris (301) 619-2004.

EIS No. 030201, Final EIS, USN, CA, Advanced Amphibious Assault Vehicle (AAAV) Development, Replacement and Establishment, Implementation, Del Mar Basin Area of Marine Base Corps (MCB) Camp Pendelton, San Diego County, CA, Wait Period Ends: June 9, 2003, Contact: Lisa Seneca (619) 532-4744.

EIS No. 030202, Final EIS, DOE, AZ, ID, NV, OR, WY, CA, MT, NM, UT, Fish and Wildlife Implementation Plan, To Implement and Fund a Policy Directions for Fish and Wildlife Mitigation and Recovery, Pacific Northwest, AZ, CA, ID, MT, NV, NM, OR, UT, WY and British Columbia, Wait Period Ends: June 9, 2003, Contact: Charles Alton (503) 230-5878.

EIS No. 030203, Final EIS, AFS, AK, Cholmondeley Timber Sales, Implementation, Harvesting Timber, Tongass Forest Plan, Tongass National Forest, Craig Ranger District, West of Ketchikan and South of Prince of Wales Island, AK, Wait Period Ends: June 9, 2003, Contact: Dale Kanen (907) 826-3211.

EIS No. 030204, Draft EIS, STB, TX, Bayport Loop Rail Line Project, Construction and Operation, between Bayport Loop and the former Galveston, Houston, Henderson Railroad Rail Line, Houston, Harris County, TX, Comment Period Ends: June 23, 2003, Contact: Dana White (888) 229-7857. This document is available on the Internet at: http://www.stb.dot.gov.

EIS No. 030205, Final EIS, NPS, FL, Biscayne National Park General Management Plan Amendment, Evaluation of the Effects of Several Alternatives for the Long-Term Management Plan, Stillsville, Biscayne National Park, Homestead, Miami-Dade County, FL, Wait Period Ends: June 9, 2003, Contact: Linda Canzanell (305) 230-1144.

EIS No. 030206, Draft EIS, NOA, LA, Programmatic EIS—The Louisiana Regional Restoration Planning Program, To Establish and Implement Natural Resource Trust Mandates, LA, Comment Period Ends: July 9, 2003, Contact: William Conner (301) 713-3038 Ext 190. This document is available on the Internet at: http://www.darp.noaa.gov/.

EIS No. 030208, Final EIS, AFS, ID, Golden Hand No. 3 and No. 4 Lode Mining Claims Plan of Operations Approval, Implementation, Frank Church-River of No Return (FC-RONR) Wilderness, Payette National Forest, Krassel Ranger District, Valley County, ID, Wait Period Ends: June 9, 2003, Contact: Quinn Carver (208) 634-0600. This document is available on the Internet at: http://www.fs/fed/us/r4/payette/main.htm/.

Dated: May 6, 2003.
Joseph C. Montgomery,
Director, NEPA Compliance Division, Office of Federal Activities.

[FR Doc. 03-11632 Filed 5-8-03; 8:45 am]

BILLING CODE 6560-50-P